DEPARTMENT OF TRANSPORTATION

Federal Highway Administration

Revised Notice of Intent To Prepare an Environmental Impact Statement: Milwaukee County, Wisconsin

AGENCY: Federal Highway Administration (FHWA), DOT.

ACTION: Revised notice of intent.

SUMMARY: The FHWA is issuing this revised Notice of Intent to advise the public that the project limits for the I-94 East-West Corridor Environmental Impact Statement (EIS) will be extended; the project is located in Milwaukee County, Wisconsin.

FOR FURTHER INFORMATION CONTACT: Bethaney Bacher-Gresock, Environmental Program Manager, FHWA Wisconsin Division Office, City Center West, 525 Junction Road, Suite 8000, Madison, WI 53717; Telephone: (608) 662-2119.

SUPPLEMENTARY INFORMATION: The FHWA, in cooperation with the Wisconsin Department of Transportation (WisDOT), issued a Notice of Intent May 18, 2012 to prepare an EIS for proposed improvements in the I-94 corridor between 70th Street on the west and 25th Street on the east (2.85 miles). This revised Notice of Intent extends the eastern project limits from 25th Street to 16th Street; the EIS for the I-94 East-West Corridor project now extends from 70th Street on the west to 16th Street on the east (3.5 miles). The extension is in response to additional work necessary east of 25th Street to accommodate alternatives that would tie back into I-94 near 16th Street and better match the recently reconstructed Marquette Interchange.

The purpose of the project remains the same, is to replace deteriorating pavement and bridges and improve safety, while identifying methods to accommodate existing and projected future traffic volumes; this may result in the full reconstruction and redesign of the I-94 corridor. The EIS will also evaluate interchanges with I-94 at 68th Street/70th Street, Hawley Road, Mitchell Boulevard, US 41/STH 341 (Stadium Interchange), 35th Street and 26th Street/Saint Paul Avenue as well as US 41 at Wisconsin Avenue/Wells Street. The EIS will be developed in accordance with 23 U.S.C. 139, 23 CFR 771, and 40 CFR parts 1500-1508.

Public involvement is a critical component of the National Environmental Policy Act (NEPA) project development process and will continue to occur throughout the development of the EIS. Specific efforts to encourage involvement by, and solicit comments from, minority and low-income populations in the project study area will continue to be made. The EIS will be made available for review by federal and state resource agencies and the public. Public information meetings, all of which are announced in advance, were held August 21 and 23, 2012; December 5-6, 2012; May 21-22, 2013; and July 30-31, 2013. In addition, a public hearing will be held after the completion of the Draft EIS.

Inquiries related to the I-94 East-West Corridor Study can be sent to DOTI94EastWest@dot.wi.gov. A public Web site has been established for the project and will be maintained throughout the study for public comment and information at http://www.sefreeways.org. To ensure that the full range of issues related to this proposed action are addressed and all significant issues identified, comments and suggestions are invited from all interested parties. Comments and questions concerning the proposed action and the EIS should be directed to the FHWA address provided above.

Projects receiving Federal funds must comply with Title VI of the Civil Rights Act and Executive Order 12898 Federal Actions to Address Environmental Justice in Minority and Low-Income Populations. Federal law prohibits discrimination on the basis of race, color, age, sex, or country of national origin in the implementation of this project. It is also Federal policy to identify and address any disproportionately high and adverse effects of federal projects on the health or environment of minority and low-income populations to the greatest extent practicable and permitted by law.

(Catalog of Federal Domestic Assistance Program Number 20.205, Highway Planning and Construction. The regulations implementing Executive Order 12372 regarding intergovernmental consultation on Federal programs and activities apply to this program.)

Issued on: August 22, 2013.
Bethaney Bacher-Gresock,
Major Projects Environmental Manager, Federal Highway Administration, Madison Wisconsin.

[FR Doc. 2013-20964 Filed 8-27-13; 8:45 am]

BILLING CODE 4910-22-P